NATIONAL AERONAUTICS AND SPACE ADMINISTRATION

[Notice (15-011)]

NASA Applied Sciences Advisory Committee Meeting

AGENCY: National Aeronautics and Space Administration.

ACTION: Notice of meeting.

SUMMARY: In accordance with the Federal Advisory Committee Act, Public Law 92-463, as amended, the National Aeronautics and Space Administration (NASA) announces a meeting of the Applied Sciences Advisory Committee. The meeting will be held for the purpose of soliciting, from the scientific community and other persons, scientific and technical information relevant to program planning.

DATES: Monday, March 30, 2015, 1:00 p.m. to 4:00 p.m., EDT.

FOR FURTHER INFORMATION CONTACT: Mr. Peter Meister, Science Mission Directorate, NASA Headquarters, Washington, DC 20546, (202) 358-1557, fax (202) 358-4118, or peter.g.meister@nasa.gov.

SUPPLEMENTARY INFORMATION: This meeting will be available telephonically and by WebEx. Any interested person may call the USA toll free conference number 844-467-4685, pass code 635480, to participate in the meeting by telephone. The WebEx link is https://nasa.webex.com, meeting number 997 419 756, passcode @March30.

The agenda for the meeting includes the following topics:

—Applied Sciences Program Update

—Applied Science Budget Briefing

—Missions and Applications

It is imperative that the meeting be held on these dates to accommodate the scheduling priorities of the key participants.

Harmony R. Myers,
Acting Advisory Committee Management Offcer, National Aeronautics and Space Administration.

[FR Doc. 2015-05653 Filed 3-11-15; 8:45 am]

BILLING CODE 7510-13-P